DEPARTMENT OF HEALTH AND HUMAN SERVICES

Food and Drug Administration

[Docket No. FDA-2021-N-0944]

Pediatric Advisory Committee; Notice of Meeting; Establishment of a Public Docket; Request for Comments; Correction

AGENCY: Food and Drug Administration, HHS.

ACTION: Notice.

SUMMARY: The Food and Drug Administration (FDA) is correcting a notice entitled “Pediatric Advisory Committee; Notice of Meeting; Establishment of a Public Docket; Request for Comments.” The document announced a meeting of the Pediatric Advisory Committee. The document was published with the incorrect docket number and end time of the meeting. This document corrects those errors.

FOR FURTHER INFORMATION CONTACT: Marieann Brill, Office of the Commissioner, Food and Drug Administration, 10903 New Hampshire Ave., Bldg. 32, Rm. 5154, Silver Spring, MD 20993, 240-402-3838, or FDA Advisory Committee Information Line, 1-800-741-8138 (301-443-0572 in the Washington, DC area). Please call the Information Line for up-to-date information on this meeting.

SUPPLEMENTARY INFORMATION: In the Federal Register of Tuesday, August 10, 2021, in FR Doc. 2021-16984 (86 FR 43666), the following corrections are made.

1. On page 43666, in the first column, in the header of the document, and in the third column under “Instructions,” “Docket No. FDA-2020-N-1648N” is changed to “Docket No. FDA-2021-N-0944”.

2. On page 43666, in the first column, the DATES portion of the document is changed to: “The meeting will be held on September 17, 2021, from 10 a.m. to 3 p.m. Eastern Time.”

This notice is issued under the Federal Advisory Committee Act (5 U.S.C. app. 2) and 21 CFR part 14, relating to the advisory committees.

Dated: August 31, 2021.
Lauren K. Roth,
Acting Principal Associate Commissioner for Policy.

[FR Doc. 2021-19216 Filed 9-3-21; 8:45 am]

BILLING CODE 4164-01-P